DEPARTMENT OF HEALTH AND HUMAN SERVICES

National Institutes of Health

The Statement of Organization, Functions, and Delegations of Authority

Part N, National Institutes of Health (NIH), of the Statement of Organization, Functions, and Delegations of Authority for the Department of Health and Human Services (DHHS) (40 FR 22859, May 27, 1975, as amended most recently at 72 FR 57595, October 10, 2007, and redesignated from Part HN as Part N at 60 FR 56605, November 9, 1995), is amended as set forth below to reflect the transfer of the functions of the Chief Information Officer (CIO) from the Center for Information Technology (NU, formerly HNU) to the Office of the Director (NA, formerly HNA).

Section N-B, Organization and Functions, under the heading Center for Information Technology (NU, formerly HNU), is amended as follows:

(1) Replace the current section NU (formerly HNU) with the following:

Center for Information Technology (NU, formerly HNU). (1) Provides leadership for the determination of NIH computational and telecommunications needs at all levels and oversees the development of appropriate infrastructure support to meet identified needs; (2) develops, operates, and maintains a state-of-the-art regional computer facility and provides overall guidance based on legislation and policy that is responsive to the NIH mission; (3) establishes and operates the necessary organization and infrastructure to assure appropriate security, connectivity, and inter-operability across the NIH Institutes and Centers (ICs), off-campus locations, and remote access; (4) collaborates on, and provides for, research activities in the computational biosciences and statistics; (5) develops, administers, and manages NIH systems, and provides consulting services to the ICs, in support of administrative and business applications; and (6) serves as a Federal Data Processing Center for administrative, biomedical, and statistical computing, provides data processing and high performance computing facilities and integrated telecommunications data networks, and provides services to the DHHS and other Federal agencies.

(2) Delete in their entirety the statements for Office of the Deputy CIO (NU9, formerly HNU9); the Information Technology Policy and Review Office (NU92, formerly HNU92, the Information Security and Awareness Office (NU93, formerly HNU93); the Information Technology Acquisitions Services Office (NU94, formerly HNU94); and the Office of the Chief Information Technology Architect (NU19, formerly HNU19).

(3) Section N-B, Organization and Functions, under the heading Office of the Director (NA, formerly HNA), is amended as follows:

Under the heading Office of the Director (NA, formerly HNA), immediately following the statement for Office of Portfolio Analysis and Strategic Initiatives (HNAU) insert the following:

Office of the Chief Information Officer (NAV, formerly HNAV). (1) Advises the NIH Director on the strategic direction and management of significant NIH Information Technology (IT) program and policy activities; (2) provides leadership for the enhancement of NIH IT capabilities, scientific and research computing services, and enterprise systems through policies, guidelines and standards, budget management, and lifecycle performance monitoring; (3) directs the establishment of a common infrastructure that optimizes NIH's IT investments and that can adapt to emerging technologies and service models; (4) leads IT security initiatives to protect and secure NIH's information assets; (5) oversees the NIH-wide IT investment portfolio, inclusive of IC, CIT, and enterprise systems; (6) approves the progress of enterprise projects through the DHHS Enterprise Performance Life Cycle (EPLC); (7) identifies critical IT issues and analyzes, plans, and leads NIH's implementation of special DHHS or Federal initiatives related to management of IT resources; (8) leads IT governance structure to align IT with NIH strategies and objectives; (9) leads the implementation of enterprise architecture policies, standards, and practices; (10) leads NIH IT support efforts on medical initiatives such as Electronic Health Record; and (11) provides leadership and focus within NIH for the development and implementation of policy and standards in IT by identifying, documenting, and communicating issues, problems, and solutions to the NIH community in a comprehensive way.

Information Technology Policy and Review Office (NAV2, formerly HNAV2). Advises and assists the NIH Chief and Deputy Chief Information Officers in managing NIH IT resources and investments through (1) development, implementation, and oversight of NIH IT policy and guidance; (2) interpretation and implementation of laws, regulations, and DHHS, Office of Management and Budget (OMB), and other Federal mandates; (3) development and oversight of IT capital planning and investment control activities; (4) coordination and preparation of IT budget and review documents; (5) development of IT management tools and training; and (6) provision of staff support to CIO committees and special initiatives, studies, and projects.

Information Security and Awareness Office (NAV3, formerly HNAV3). Provides guidance to the NIH Chief and Deputy Chief Information Officers regarding IT security, planning, and budget activities by (1) leading the development of program goals, policies, standards, and procedures for the NIH IT Security program; (2) providing guidance to ICs for security of information in accordance with the Privacy Act, the Computer Security Act of 1987, the Information Technology Management Reform Act (ITMRA), OMB, and DHHS guidance; (3) providing support to the NIH IT Management Committee (ITMC); (4) conducting NIH-wide IT security activities; (5) managing an NIH Incident Response Team; (6) managing an NIH Risk Management and Oversight Program; and (7) managing an NIH IT Security Awareness and Training Program.

Information Technology Acquisition Services Office (NAV4, formerly HNAV4). Advises the NIH Chief and Deputy Chief Information Officers on IT contract expenditures and IT trends by (1) maintaining awareness of federally mandated laws, regulations, and standards as they relate to IT acquisition documents and IT investments; (2) participating in NIH-wide committees that impact NIH CIO initiatives, policies, and standards; (3) working closely with other ICs to ensure that NIH CIO initiatives and practices are reflected in IT submissions to DHHS and OMB; (4) assisting in the preparation of Statements of Work and supporting documentation such as schedules, evaluation criteria, and checklists required to implement the ITMRA, maintaining consistency with NIH/DHHS/OMB policies; (5) assisting NIH program managers in identifying appropriate mechanisms to satisfy their IT requirements, including NIH acquisition resources; and (6) advising NIH IT project managers on contract/task order management, administrative strategies, problem resolution, and techniques via meetings, e-mail, handbooks, and/or briefings.

Information Technology Architecture Office (NAV5, formerly HNAV5). (1) Advises the CIO on IT enterprise architecture for the NIH; (2) provides leadership to the development and management of an NIH enterprise architecture; (3) develops principles, policy, and technology standards to guide IT systems design and integration; (4) leads and/or evaluates enterprise projects and technologies for compliance and integration within IT architecture; (5) coordinates and represents IT enterprise architecture for the NIH; and (6) provides leadership, management, and implementation of transforming technologies for NIH such as Federal Public Key Infrastructure, Enterprise Application Integration Infrastructure, and Enterprise Identity Management Infrastructure, including the redesign of the NIH Enterprise Directory.

Delegations of Authority: All delegations and redelegations of authority to officers and employees of NIH which were in effect immediately prior to the effective date of this reorganization and are consistent with this reorganization shall continue in effect, pending further redelegation.

Dated: January 7, 2008.
Elias A. Zerhouni,
Director, National Institutes of Health.

[FR Doc. 08-125 Filed 1-15-08; 8:45 am]

BILLING CODE 4140-01-M